DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, April 22, 2004, 1 p.m. to April 22, 2004, 2 p.m., National Institutes of Health, NIAAA, 5635 Fishers Lane, Room 3033, Bethesda, MD 20892 which was published in the Federal Register on March 26, 2004, Vol. 69, 59, 15890.

The meeting will be held on May 6, 2004, instead of April 22, 2004. The location and time are the same. Jeffrey Toward, Ph.D., is the Scientific Review Administrator. The meeting is closed to the public.

Dated: April 23, 2004.
LaVerne Y. Stringfield,
Director, Office of Federal Advisory Committee Policy.

[FR Doc. 04-9728 Filed 4-28-04; 8:45 am]

BILLING CODE 4140-01-M